FEDERAL COMMUNICATIONS COMMISSION

47 CFR Part 10

[PS Docket No. 07-287; DA 13-280]

The Commercial Mobile Alert System

AGENCY: Federal Communications Commission.

ACTION: Final rule.

SUMMARY: In this document, the Commission amends its rules to change the name of the Commercial Mobile Alert System (CMAS) to Wireless Emergency Alerts (WEA). This is intended to conform the name used for the wireless alert system regulated under Commission rules to the name used by the major commercial mobile service providers that participate in that system.

DATES: Effective: March 19, 2013.

FOR FURTHER INFORMATION CONTACT: Lisa Fowlkes, Deputy Bureau Chief, Public Safety and Homeland Security Bureau, at (202) 418-7452, or by email at Lisa.Fowlkes@fcc.gov.

SUPPLEMENTARY INFORMATION: This is a summary of the Order in PS Docket No. 07-287, DA 13-280, adopted on February 25, 2013, and released on February 25, 2013. The full text of this document is available for inspection and copying during normal business hours in the FCC Reference Center (Room CY-A257), 445 12th Street SW., Washington, DC 20554. The complete text of this document also may be purchased from the Commission's copy contractor, Best Copy and Printing, Inc., 445 12th Street SW., Room, CY-B402, Washington, DC 20554. The full text may also be downloaded at: www.fcc.gov.

1. The Warning Alert and Response Network Act (WARN Act) required the Commission to adopt the technical requirements necessary for commercial mobile service providers to transmit emergency alerts, if they elect to transmit those alerts. In the rulemaking proceeding that the Commission launched to implement this WARN Act requirement, the Commission used the name Commercial Mobile Alert System (CMAS) to describe the system that commercial mobile service providers could use to transmit emergency alerts to the public. The regulations governing this system are codified in part 10 of the Commission's rules and also refer to this system as CMAS. Recently, however, an increasing number of the commercial mobile service providers that participate in the system are referring to it as Wireless Emergency Alerts (WEA) in the information that they provide to their subscribers.

2. In this Order, the Commission revises part 10 of its rules by changing the name “Commercial Mobile Alert System” to “Wireless Emergency Alerts” throughout the part and by changing references to “CMAS” to “WEA.” These revisions will conform the name used for the wireless alert system regulated under our rules to the name used by the major commercial mobile service providers that participate in that system. Accordingly, the rules will more accurately reflect common parlance and thus reduce confusion.

3. The revisions adopted in this Order and set forth below merely change the name of the commercial mobile alert service regulated under Part 10 of the Commission's rules. These revisions are thus ministerial, non-substantive, and editorial. Accordingly, the Commission found good cause to conclude that notice and comment procedures are unnecessary and would not serve any useful purpose.

4. Because the rule revisions will not affect the substantive rights or interests of any licensee, the Commission also found good cause to make these non-substantive, editorial revisions of the rules effective upon publication in the Federal Register.

5. The Commission's Public Safety and Homeland Security Bureau adopted this Order pursuant to its delegated authority to “conduct[] rulemaking proceedings” in matters pertaining to public safety and homeland security. Pursuant to § 0.392 of the Commission's rules, the Bureau Chief is “delegated authority to perform all functions of the Bureau, described in . . . § 0.191” with certain specified exceptions. None of those exceptions are present here.

I. Procedural Matters

A. Paperwork Reduction Act Analysis

6. This document does not contain new or modified information collection requirements subject to the Paperwork Reduction Act of 1995, Public Law 104-13. In addition, therefore, it does not contain any new or modified information collection burden for small business concerns with fewer than 25 employees, pursuant to the Small Business Paperwork Relief Act of 2002, Public Law 107-198, see 44 U.S.C. 3506(c)(4).

II. Final Regulatory Flexibility Analysis

7. Because the Commission adopted this Order without the publication of a notice of proposed rulemaking, the Regulatory Flexibility Act, 5 U.S.C. 601 et seq., does not require the Commission to prepare a regulatory flexibility analysis.

III. Ordering Clauses

8. Accordingly, it is ordered that, effective upon publication in the Federal Register, part 10 of the Commission's rules is revised, as set forth below, pursuant to the authority contained in sections 4(i), 5(c), and 303(r) of the Communications Act, 47 U.S.C. 154(i), 155(c), and 303(r), and §§ 0.231(b) and 0.392(e) of the Commission's regulations, 47 CFR 0.191(e) and 0.392.

9. It is further ordered that the Secretary shall cause a copy of this Order to be published in the Federal Register.

10. It is further ordered that the Bureau shall send a copy of this Order in a report to Congress and the Government Accountability Office pursuant to the Congressional Review Act. See 5 U.S.C. 801(a)(1)(A).

List of Subjects in 47 CFR Part 10

Communications common carriers, Radio.

Federal Communications Commission.
David S. Turetsky
Chief, Public Safety and Homeland Security Bureau.

For the reasons discussed in the preamble, the Federal Communications Commission amends 47 CFR Part 10 as follows:

PART 10—WIRELESS EMERGENCY ALERTS

1. The authority citation for Part 10 continues to read as follows:

Authority: 47 U.S.C. 151, 154(i) and (o), 201, 303(r), 403, and 606; sections 602(a), (b), (c), (f), 603, 604 and 606 of Pub. L. 109-347, 120 Stat. 1884.

2. Revise the heading of Part 10 to read as set forth above.

3. Section 10.2 is revised to read as follows:

§ 10.2 Purpose.

The rules in this part establish the requirements for participation in the voluntary Wireless Emergency Alerts system.

4. Section 10.10 is amended by revising paragraphs (b), (c), (h), (i) and (j) to read as follows:

§ 10.10 Definitions.

* * * * *

(b) Common Alerting Protocol. The Common Alerting Protocol (CAP) refers to Organization for the Advancement of Structured Information Standards (OASIS) Standard CAP-V1.1, October 2005 (available at http://www.oasis-open.org/specs/index.php#capv1.1), or any subsequent version of CAP adopted by OASIS and implemented by the WEA.

(c) Wireless Emergency Alerts. The Wireless Emergency Alerts (WEA) system refers to the voluntary emergency alerting system established by this part, whereby Commercial Mobile Service Providers may elect to transmit Alert Messages to the public.

* * * * *

(h) CMS provider Gateway. The mechanism(s) that supports the “C” interface and associated protocols between the Alert Gateway and the CMS provider Gateway, and which performs the various functions associated with the authentication, management and dissemination of WEA Alert Messages received from the Alert Gateway.

(i) CMS provider infrastructure. The mechanism(s) that distribute received WEA Alert Messages throughout the CMS provider's network, including cell site/paging transceivers and perform functions associated with authentication of interactions with the Mobile Device.

(j) Mobile Devices. The subscriber equipment generally offered by CMS providers that supports the distribution of WEA Alert Messages.

5. Section 10.11 is revised to read as follows:

§ 10.11 WEA implementation timeline.

Notwithstanding anything in this part to the contrary, a participating CMS provider shall begin an 18 month period of development, testing and deployment of the WEA in a manner consistent with the rules in this part no later than 10 months from the date that the Federal Alert Aggregator and Alert Gateway makes the Government Interface Design specifications available.

6. Revise the heading of Subpart B to read as follows:

Subpart B—Election To Participate in Wireless Emergency Alerts System

7. Section 10.210 is amended by revising the section heading and paragraphs (a) introductory text, (a)(2) and (b) to read as follows:

§ 10.210 WEA participation election procedures.

(a) A CMS provider that elects to transmit WEA Alert Messages, in part or in whole, shall electronically file with the Commission a letter attesting that the Provider:

* * * * *

(2) Commits to support the development and deployment of technology for the “C” interface, the CMS provider Gateway, the CMS provider infrastructure, and mobile devices with WEA functionality and support of the CMS provider selected technology.

(b) A CMS provider that elects not to transmit WEA Alert Messages shall file electronically with the Commission a letter attesting to that fact.

* * * * *

8. Section 10.220 is revised to read as follows:

§ 10.220 Withdrawal of election to participate in WEA.

A CMS provider that elects to transmit WEA Alert Messages, in part or in whole, may withdraw its election without regulatory penalty or forfeiture if it notifies all affected subscribers as well as the Federal Communications Commission at least sixty (60) days prior to the withdrawal of its election. In the event that a carrier withdraws from its election to transmit WEA Alert Messages, the carrier must notify each affected subscriber individually in clear and conspicuous language citing the statute. Such notice must promptly inform the customer that he or she no longer could expect to receive alerts and of his or her right to terminate service as a result, without penalty or early termination fee. Such notice must facilitate the ability of a customer to automatically respond and immediately discontinue service.

9. Section 10.230 is revised to read as follows:

§ 10.230 New CMS providers participating in WEA.

CMS providers who initiate service at a date after the election procedure provided for in § 10.210(d) and who elect to provide WEA Alert Messages, in part or in whole, shall file electronically their election to transmit in the manner and with the attestations described in § 10.210(a).

10. Section 10.240 is amended by revising the section heading and paragraph (a) to read as follows:

§ 10.240 Notification to new subscribers of non-participation in WEA.

(a) A CMS provider that elects not to transmit WEA Alert Messages, in part or in whole, shall provide clear and conspicuous notice, which takes into account the needs of persons with disabilities, to new subscribers of its non-election or partial election to provide Alert messages at the point-of-sale.

* * * * *

11. Section 10.250 is amended by revising the section heading and paragraphs (a) and (b) to read as follows:

§ 10.250 Notification to existing subscribers of non-participation in WEA.

(a) A CMS provider that elects not to transmit WEA Alert Messages, in part or in whole, shall provide clear and conspicuous notice, which takes into account the needs of persons with disabilities, to existing subscribers of its non-election or partial election to provide Alert messages by means of an announcement amending the existing subscriber's service agreement.

(b) For purposes of this section, a CMS provider that elects not to transmit WEA Alert Messages, in part or in whole, shall use the notification language set forth in § 10.240 (c) or (d) respectively, except that the last line of the notice shall reference FCC Rule 47 CFR 10.250, rather than FCC Rule 47 CFR 10.240.

* * * * *

12. Section 10.260 is revised to read as follows:

§ 10.260 Timing of subscriber notification.

A CMS provider that elects not to transmit WEA Alert Messages, in part or in whole, must comply with §§ 10.240 and 10.250 no later than 60 days following an announcement by the Commission that the Alert Aggregator/Gateway system is operational and capable of delivering emergency alerts to participating CMS providers.

13. Section 10.270 is revised to read as follows:

§ 10.270 Subscribers' right to terminate subscription.

If a CMS provider that has elected to provide WEA Alert Messages in whole or in part thereafter chooses to cease providing such alerts, either in whole or in part, its subscribers may terminate their subscription without penalty or early termination fee.

14. Section 10.280 is amended by revising the section heading to read as follows:

§ 10.280 Subscribers' right to opt out of WEA notifications.

* * * * *

15. Section 10.320 is amended by revising paragraphs (c) and (f)(1) to read as follows:

§ 10.320 Provider alert gateway requirements.

* * * * *

(c) Security. The CMS provider gateway must support standardized IP-based security mechanisms such as a firewall, and support the defined WEA “C” interface and associated protocols between the Federal alert gateway and the CMS provider gateway.

* * * * *

(f) * * *

(1) The information must be provided 30 days in advance of the date when the CMS provider begins to transmit WEA alerts.

* * * * *

16. Section 10.340 is revised to read as follows:

§ 10.340 Digital television transmission towers retransmission capability.

Licensees and permittees of noncommercial educational broadcast television stations (NCE) or public broadcast television stations (to the extent such stations fall within the scope of those terms as defined in section 397(6) of the Communications Act of 1934 (47 U.S.C. 397(6))) are required to install on, or as part of, any broadcast television digital signal transmitter, equipment to enable the distribution of geographically targeted alerts by commercial mobile service providers that have elected to transmit WEA alerts. Such equipment and technologies must have the capability of allowing licensees and permittees of NCE and public broadcast television stations to receive WEA alerts from the Alert Gateway over an alternate, secure interface and then to transmit such WEA alerts to CMS Provider Gateways of participating CMS providers. This equipment must be installed no later than eighteen months from the date of receipt of funding permitted under section 606(b) of the WARN Act or 18 months from the effective date of these rules, whichever is later.

17. Section 10.350 is amended by revising the section heading, introductory text, and paragraphs (a) introductory text, (a)(2), (a)(4) and (a)(5) to read as follows:

§ 10.350 WEA Testing requirements.

This section specifies the testing that will be required, no later than the date of deployment of the WEA, of WEA components.

(a) Required monthly tests. Testing of the WEA from the Federal Alert Gateway to each Participating CMS Provider's infrastructure shall be conducted monthly.

* * * * *

(2) Participating CMS Providers shall schedule the distribution of the RMT to their WEA coverage area over a 24 hour period commencing upon receipt of the RMT at the CMS Provider Gateway. Participating CMS Providers shall determine the method to distribute the RMTs, and may schedule over the 24 hour period the delivery of RMTs over geographic subsets of their coverage area to manage traffic loads and to accommodate maintenance windows.

* * * * *

(4) The RMT shall be initiated only by the Federal Alert Gateway Administrator using a defined test message. Real event codes or alert messages shall not be used for the WEA RMT message.

(5) A Participating CMS Provider shall distribute an RMT within its WEA coverage area within 24 hours of receipt by the CMS Provider Gateway unless pre-empted by actual alert traffic or unable due to an unforeseen condition.

* * * * *

18. Section 10.420 is revised to read as follows:

§ 10.420 Message elements.

A WEA Alert Message processed by a Participating CMS Provider shall include five mandatory CAP elements—Event Type; Area Affected; Recommended Action; Expiration Time (with time zone); and Sending Agency. This requirement does not apply to Presidential Alerts.

19. Section 10.430 is revised to read as follows:

§ 10.430 Character limit.

A WEA Alert Message processed by a Participating CMS Provider must not exceed 90 characters of alphanumeric text.

20. Section 10.440 is revised to read as follows:

§ 10.440 Embedded reference prohibition.

A WEA Alert Message processed by a Participating CMS Provider must not include an embedded Uniform Resource Locator (URL), which is a reference (an address) to a resource on the Internet, or an embedded telephone number. This prohibition does not apply to Presidential Alerts.

21. Section 10.470 is revised to read as follows:

§ 10.470 Roaming.

When, pursuant to a roaming agreement (see § 20.12 of this chapter), a subscriber receives services from a roamed-upon network of a Participating CMS Provider, the Participating CMS Provider must support WEA alerts to the roaming subscriber to the extent the subscriber's mobile device is configured for and technically capable of receiving WEA alerts.

22. Section 10.500 is amended by revising the introductory text to read as follows:

§ 10.500 General requirements.

WEA mobile device functionality is dependent on the capabilities of a Participating CMS Provider's delivery technologies. Mobile devices are required to perform the following functions:

* * * * *

[FR Doc. 2013-06296 Filed 3-18-13; 8:45 am]

BILLING CODE 6712-01-P